DEPARTMENT OF JUSTICE

National Institute of Corrections

Solicitation for a Cooperative Agreement: Development of a Guide for Correctional Agencies To Establish Tele-Visiting Capacity in Correctional Facilities

AGENCY: National Institute of Corrections, U.S. Department of Justice.

ACTION: Solicitation for a cooperative agreement.

SUMMARY: The National Institute of Corrections (NIC) is seeking applications from organizations, groups, or individuals to enter into a cooperative agreement for an 18-month period to develop a guide to establishing televisiting capacity in correctional facilities.

DATES: Applications must be received by 4:00 p.m. (EDT) on Friday, August 3, 2012.

ADDRESSES: Mailed applications must be sent to: Director, National Institute of Corrections, 320 First Street NW., Room 5002, Washington, DC 20534. Applicants are encouraged to use Federal Express, UPS, or similar service to ensure delivery by the due date. Hand delivered applications should be brought to 500 First Street NW., Washington, DC 20534. At the front security desk, dial 7-3106, ext. 0 for pickup. Faxed or emailed applications will not be accepted. Electronic applications can only be submitted via http://www.grants.gov.

FOR FURTHER INFORMATION CONTACT: A copy of this announcement and links to the required application forms can be downloaded from the NIC Web site at http://www.nicic.gov/cooperative_agreements.

All technical or programmatic questions concerning this announcement should be directed to Maureen Buell, Correctional Program Specialist, National Institute of Corrections, Community Services Division. Ms. Buell can be reached directly at 1-800-995-6423, ext. 40121 or by email at mbuell@bop.gov. In addition to the direct reply, all questions and responses will be posted on NIC's Web site at www.nicic.gov for public review (the names of those submitting questions will not be posted). The Web site will be updated regularly and postings will remain on the Web site until the closing date of this cooperative agreement solicitation. Only questions received by 12:00 p.m. (EDT) on July 25, 2012 will be posted on the NIC Web site.

SUPPLEMENTARY INFORMATION:

Overview: According to a 2000 Bureau of Justice Statistics report (Mumola, C.J. NCJ 182335, 8/30/2000), of the nearly 2 million men and women being held in state prisons, local jails, and federal facilities, nearly 1.1 million were parents, affecting an estimated amount of 2.3 million children. Over half of those parents had minor children. This has a significant effect on children who are assigned temporary living arrangements such as foster care or placement with extended family or neighbors. Without maintaining positive connections to a parent, children are more likely to experience a variety of adverse effects, including impaired learning, poverty, and frequent displacement or instability in their living situations. Data shows that children who were residing with their mothers prior to incarceration were most likely to be living with grandmothers (78%) or other kinship or under foster care arrangements. Children of male offenders were more likely living with their biological mother (90%) and less likely to be in other kinship or foster care placements. Over the past two decades, as the number of incarcerated men and women has increased, so have the numbers of prison and jail facilities. It is likely that the facility in which a man or woman is housed is far away from family, community, and other potential supports. This is more often the rule with women, given that states may have only a single facility that houses women, and they frequently are not easily accessed by family and other potential support networks. Regardless of the gender of the offender, the effect of parental incarceration is significant, and lack of appropriate contact with family and other community supports affects how an offender serves his or her time and challenges the reentry process.

Research shows there is a positive relationship among supportive family, community contacts, and behavioral health issues that support successful reentry. In fact, “maintaining community and family ties is related to desistance” (Visher, C., and S. Courtney, 2007. One Year Out, Experiences of Prisoners Returning to Cleveland, Washington). Yet, U.S. incarceration trends support the transfer of offenders to accommodate inmate populations. Family and community supports are becoming disconnected as men and women are sentenced and transferred to facilities far from home, leaving them with numerous systemic barriers to maintaining healthy contact.

Beginning with the sentencing process, “whereas a family law court often makes children's interests paramount, a criminal law court may overlook altogether how its sentencing decision will affect a defendant's children” (Abramowicz, S. Rethinking Parental Incarceration, summer 2011 Copyright© 2011 University of Colorado Law Review, 82 U. Colo L. Rev. 793). Institutional policy and practice, while in place to facilitate manageable and safe visitation, may inadvertently create barriers due to staffing requirements, physical plant and space accommodations, security issues, and scheduling. Furthermore, staff may perceive in-person visiting as a privilege or perk, rather than as programming and preparation for reentry. Such attitudes can severely limit opportunities to build potential supportive networks.

The inability of incarcerated individuals to visit with family and build community supports can have far-reaching consequences. Inmate parents face significant obstacles in asserting parental rights. The Adoption and Safe Family Act of 1994 (ASFA) was developed to provide adoption priority for children who were lingering in foster care waiting for adoption. For those parents who had maintained appropriate contact (for example, having had sufficient contact between parent and child in 15 consecutive months out of 22) or had their children living with them prior to incarceration, an unintended consequence of ASFA could be the termination of parental rights during the period of incarceration. Some states, but not all, have opted out of this legal mandate. Whether it be because of financial ability, transportation, geographical distance, unwillingness of a caregiver, or inconvenience, lack of visitation can have severe consequences for both the parent and child.

Numerous studies over the decades have supported the building of familial and community bonds as contributing to improved reentry and reductions in recidivism. Some national criminal justice organizations have supported the increased use of visitation to improve reentry efforts. These include The Sentencing Project (The Effects of Prison Visitation on Offender Recidivism, November 2011), The Reentry Policy Council (Children of Incarcerated Parents: An Action Plan for Federal Policymakers, 2009), and The Vera Institute of Justice Family Justice Program (Close to Home: Building on Family Support for People Leaving Jail, October 2011). The National Institute of Justice currently has a solicitation out as well, “Impact of Video Visitation on Offenders and Their Families” under Research and Evaluation in Justice Systems, CFDA No. 16.560.

This request for application is not intended to create a guide to supplant in-person visitation, but used in combination with other types of communication, televisiting has the potential for building and maintaining supportive connections between parents and children.

Background: The National Institute of Corrections has been providing support to federal, state, and local criminal justice organizations nationally since 1974. Since that time, NIC has worked closely with federal, state, and local jails, prisons, and community corrections agencies on a broad range of projects ranging from operational to research and innovation-based. As correctional practice has evolved, trends have emerged and focus has expanded beyond study of the individual in corrections to the study of the impact that community and family, broadly defined, have on an individual's success in our nation's facilities or under some form of community supervision (i.e., probation or parole). As correctional populations have soared, bed space has been at a premium and new facilities have been opened, often far from whatever supports the individual in correctional custody may have.

Scope of Work: The intent of this cooperative agreement is to inform the development of televisiting initiatives. The cooperative agreement awardee will design and develop a guide to assist correctional agencies in the establishment of televisiting programs to enhance family and supportive community connections. The concept of televisiting has been employed in correctional agencies in various ways, and with the transfer of offenders, to locations often far from their communities and families. There continues to be a strong interest in the field for establishing such programs. It is anticipated that in developing the guide, the applicant will have strong familiarity with the concept of televisiting, technology, and potential uses of televisiting. The applicant will draw from the existing research and incorporate lessons learned from correctional agencies that have already established programs. Lessons learned might include any current evaluations, knowledge about the potential for and existing collaborative partnerships, the financial aspects of televisiting systems and the potential for broadly defined cost benefits. It is further anticipated that the applicant will prepare a resource guide for sites that are contemplating development of televisiting or looking to make enhancements to current televisiting initiatives. The final product will be broadly available to the correctional field and will be shared via the National Institute of Correction's Web site.

Document Length: The length of the document should be determined by content. Brevity and clarity are encouraged.

Intended Audience: The primary audience for this curriculum is the leadership and management of correctional organizations and various external public and private stakeholders interested in the establishment of televisiting programs in correctional settings.

Meetings: The cooperative agreement awardee will participate in an initial meeting with NIC staff for a project overview and preliminary planning prior to September 15, 2012. Additionally, the awardee should plan to meet with NIC staff on a routine, established basis to discuss the activities noted in the timeline during the course of the cooperative agreement. (The applicant creates a timeline in response to the RFP. See section titled Project Management below.) Meetings will be held no less than quarterly and may be conducted via webinar or in person as agreed upon by NIC and the awardee.

Project Deliverables: Under this cooperative agreement, the awardee will design and develop three products: (1) A guide to assist correctional agencies in the establishment of televisiting programs to enhance family and supportive community connections, (2) a resource guide for sites that are contemplating the development of televisiting in their own facility or looking to make enhancements to current televisiting initiatives, (3) a series of evaluative questions about the efficacy of televisiting for sites that have implemented or are considering the establishment of correctional televisiting. These questions will be developed in collaboration with NIC's Research and Information Services Division.

Document Preparation: For all awards in which a document will be a deliverable, the awardee must follow the Guidelines for Preparing and Submitting Manuscripts for Publication as found in the “General Guidelines for Cooperative Agreements,” which can be found on the NIC Web site at www.nicic.gov/cooperativeagreements. In addition, awardees are asked to comply with NIC's recommendations for producing media using plain language. These can be found at www.nicic.gov/plainlanguage. All final publications submitted for posting on the NIC Web site must meet the federal government's requirement for accessibility (e.g., 508 PDF, HTML file, or other acceptable format). All documents developed under this cooperative agreement must be submitted in draft form to NIC for review prior to the final products being delivered.

Application Requirements: An application package must include OMB Standard Form 425, Application for Federal Assistance; a cover letter that identifies the audit agency responsible for the applicant's financial accounts as well as the audit period or fiscal year under which the applicant operates (e.g. July 1 through June 30); and an outline of projected costs with the budget and strategy narratives described in the announcement. The following additional forms must also be included: OMB Standard Form 424A, Budget Information—Non-Construction Programs; OMB Standard Form 424B, Assurances—Non-Construction Programs (both available at www.grants.gov); DOJ/FBOP/NIC Certification Regarding Lobbying, Debarment, Suspension and Other Responsibility Matters; and the Drug-Free Workplace Requirements (available at www.nicic.gov/Downloads/General/certif-frm.pdf).

Applications should be concisely written, typed double spaced, and reference the NIC opportunity number and title referenced in this announcement. If you are hand delivering or submitting via Fed-Ex, please include an original and three copies of your full proposal (program and budget narrative, application forms, assurances, and other descriptions). The original should have the applicant's signature in blue ink. Electronic submissions will be accepted only via www.grants.gov.

Place the following at the top of the abstract: Project title; Applicant name (Legal name of applicant organization); Mailing address; Contact phone numbers (voice, fax); Email address; and Web site address, if applicable.

The narrative portion of the application should include, at a minimum, a statement indicating the applicant's understanding of the project's purpose, goals and objectives. The applicant should state this in language other than that used in the solicitation.

Project Design and Implementation: This section should describe the design and implementation of the project and how the key design and implementation issues and challenges will be addressed.

Project Management: This section should include a chart of measurable project milestones and timelines for the completion of each milestone.

Capabilities and Competencies: This section should describe (1) the qualifications of the applicant organization and any partner organizations to do the work proposed and (2) the expertise of key staff to be involved in the project. Attach resumes that document the relevant knowledge, skills, and abilities of the principle investigator and each staff member to complete the project. If the applicant organization has completed similar projects in the past, please include the URL/Web site or ISBN number for accessing a copy of the referenced work.

Budget: The budget should detail all costs for the project, show consideration for all contingencies for the project, note a commitment to work within the proposed budget, and demonstrate the ability to provide deliverables according to schedule.

Authority: Public Law 93-415.

Funds Available: NIC is seeking the applicant's best ideas regarding accomplishment of the scope of work and the related costs for achieving the goals of this solicitation. Funds may be used only for the activities that are linked to the desired outcome of the project. The funding amount should not exceed $48,000 for a period of 18 months.

Eligibility of Applicants: An eligible applicant is any state or general unit of government, private agency, educational institution, organization, individual, or team with expertise in the described areas. Applicants must have demonstrated ability to implement a project of this size and scope. To be considered, applicants must demonstrate, at a minimum, in-depth knowledge of research and practice regarding reentry; the effect of parental incarceration and correctional visitation policy and practice; understanding of the challenges experienced by family and other potential sources of support in the correctional visitation process; in-depth knowledge of the practices, programs and complexities in operation of correctional facilities; issues relevant to parenting, the importance of family in influencing offender outcomes, and the benefit of community supports in male and female facilities; knowledge of case law as it relates to visitation in correctional environments; demonstrated knowledge of tele-visiting technology and its potential uses; specific examples of expertise in directing project design and implementation, particularly with regard to the development of similar projects in which such technology might be used; and demonstrated ability to work in a collaborative fashion with other experts in the field of reentry, transition, family, and community supports.

Review Considerations: Among the criteria used to evaluate the applications are: An assessment of whether the applicant has a clear understanding of the project requirements as stated in the solicitation; background, experience and expertise of the proposed project staff, including any sub-contractors; effectiveness of an innovative approach to the project; clear, concise description of all elements and tasks of the project, with sufficient and realistic time frames necessary to complete the tasks; technical soundness of project design and methodology; financial and administrative integrity of the proposal, including adherence to federal financial guidelines and processes; a sufficiently detailed budget that shows consideration of all contingencies for this project and commitment to work within the budget proposed; and indication of availability to work with NIC staff.

Applications received under this announcement will be subject to a collaborative review process. The criteria for the evaluation of each application will be as follows:

Programmatic: 40 Points

Are all of the tasks and activities adequately covered? Is there a clear description of how each project activity will be accomplished, including major tasks, the strategies to be employed, required staffing, responsible parties, and other required resources? Are there any unique or exceptional approaches, techniques, or design aspects proposed that will enhance the project?

Project Management and Administration: 20 Points

Does the applicant identify reasonable objectives, milestones, and measures to track progress? Are the proposed management and staffing plans clear, realistic, and sufficient to complete the project? Is the applicant willing to meet with NIC as specified in the solicitation for this cooperative agreement?

Organizational and Project Staff Background: 30 Points

Do the skills, knowledge, and expertise of the organization and the proposed project staff demonstrate a high level of competency to complete the tasks? Does the applicant/organization have the necessary experience and organizational capacity to complete all goals of the project? If consultants and/or partnerships are proposed, is there a reasonable justification for their inclusion in the project and a clear structure to ensure effective coordination?

Budget: 10 Points

Is the proposed budget realistic? Does it provide sufficient cost detail/narrative? Does it represent good value relative to the anticipated results? Does the application include a chart that aligns the budget with project activities along a timeline with, at minimum, quarterly benchmarks? In terms of program value, is the estimated cost reasonable in relation to work performed and project products?

Note: NIC will NOT award a cooperative agreement to an applicant who does not have a Dun and Bradstreet Database Universal Number (DUNS) and is not registered in the Central Contractor Registry (CCR). Applicants can obtain a DUNS number at no cost by calling the dedicated toll-free request line at 800-333-0505. Applicants who are sole proprietors should dial 866-705-5711 and select option #1.

Applicants may register in the CCR online at the CCR Web site: www.ccr.gov. Applicants can also review a CCR handbook and worksheet at this Web site.

Number of Awards: One.

NIC Opportunity Number: 12CS06. This number should appear as a reference line in the cover letter, where indicated on Standard Form 424, and outside of the envelope in which the application is sent.

Catalog of Federal Domestic Assistance Number: 16.601.

Executive Order 12372: This project is not subject to the provisions of Executive Order 12372.

Morris L. Thigpen,
Director, National Institute of Corrections.

[FR Doc. 2012-16171 Filed 7-2-12; 8:45 am]

BILLING CODE 4410-36-P